DEPARTMENT OF HEALTH AND HUMAN SERVICES

Centers for Disease Control and Prevention

[60Day-08-0493]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960, send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

2009 and 2011 National Youth Risk Behavior Surveys (YRBS) (OMB No. 0920-0493)—Reinstatement—National Center for Chronic Disease Prevention and Health Promotion (NCCDPHP), Centers for Disease Control and Prevention (CDC).

Background and Brief Description

The purpose of this request is to obtain OMB approval to continue data collection for the National Youth Risk Behavior Survey (YRBS), a school-based survey that has been conducted biennially since 1991. OMB approval for the 2005 YRBS and 2007 YRBS expired November 30, 2007 (OMB No. 0920-0493). CDC seeks a three-year approval to conduct the YRBS in Spring 2009 and Spring 2011. Minor changes incorporated into this reinstatement request include: An updated title for the information collection, to accurately reflect the years in which the survey will be conducted; minor changes to the burden estimate; and minor changes to the data collection instrument.

The YRBS assesses priority health risk behaviors related to the major preventable causes of mortality, morbidity, and social problems among both youth and young adults in the United States. Data on health risk behaviors of adolescents are the focus of approximately 40 national health objectives in Healthy People 2010, an initiative of the U.S. Department of Health and Human Services (HHS). The YRBS provides data to measure at least 10 of the health objectives and 3 of the 10 Leading Health Indicators established by Healthy People 2010. In addition, the YRBS can identify racial and ethnic disparities in health risk behaviors. No other national source of data measures as many of the Healthy People 2010 objectives addressing adolescent behaviors as the YRBS. The data also will have significant implications for policy and program development for school health programs nationwide.

In Spring 2009 and Spring 2011, the YRBS will be conducted among nationally representative samples of students attending public and private schools in grades 9-12. Information supporting the YRBS also will be collected from school administrators and teachers. The table below reports the number of respondents annualized over the 3-year project period.

There are no costs to respondents except their time.

Estimated Annualized Burden Hours
Type of respondents | Form name | Number of respondents | Number of responses per respondent | Average burden per response (in hours) | Total burden (in hours)
Administrators | Recruitment Script for the Youth Risk Behavior Survey | 230 | 1 | 30/60 | 115
Teachers | Data Collection Checklist for the Youth Risk Behavior Survey | 400 | 1 | 15/60 | 100
Students | Youth Risk Behavior Survey | 8,000 | 1 | 45/60 | 6,000
Total |  |  |  |  | 6,215

Dated: February 7, 2008.
Maryam I. Daneshvar,
Acting Reports Clearance Officer, Centers for Disease Control and Prevention.

[FR Doc. E8-2832 Filed 2-14-08; 8:45 am]

BILLING CODE 4163-18-P